DEPARTMENT OF LABOR

Employment and Training Administration

[NAFTA—006260]

GretagMacbeth, New Windsor, NY; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2331), an investigation was initiated on April 18, 2002, in response to a petition filed on behalf of workers at GretagMacbeth, New Windsor, New York. Workers were engaged in the production of color quality and control instruments.

During the investigation it was discovered that the petition was a duplicate of the petition filed on April 18, 2002 that resulted in a negative determination (NAFTA-006109). Consequently, further investigation in this case would serve no purpose, and the investigation has been terminated.

Signed in Washington, DC this 9th day of July, 2002.
Edward A. Tomchick,
Certifying Officer, Division of Trade Adjustment Assistance.

[FR Doc. 02-18427 Filed 7-19-02; 8:45 am]

BILLING CODE 4510-30-P